DEPARTMENT OF JUSTICE

Antitrust Division

Notice Pursuant to the National Cooperative Research and Production Act of 1993—Alliance for Sustainable Air Transportation, Inc.

Notice is hereby given that, on March 14, 2008, pursuant to Section 6(a) of the National Cooperative Research and Production Act of 1993, 15 U.S.C. 4301 et seq. (“the Act”), Alliance for Sustainable Air Transportation, Inc. (“the Joint Venture”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identities of the parties to the venture are: DayJet Corporation, Boca Raton, FL; Era Beyond Radar, Reston, VA; State of California Department of Transportation, Division of Aeronautics, Sacramento, CA; and General Dynamics Information Technology, Fairfax, VA. The Joint Venture was formed as a Delaware non-stock member corporation. The general area of the Joint Venture's planned activity is (a) To enable and promote a rapid transition in the United States to the “Next Generation Air Transportation System” (as envisioned by the Federal Aviation Administration's “NextGen” initiative); and (b) to support and facilitate the development and implementation of initial NextGen prototype systems (“Prototypes”), to foster, collaborate with and leverage the efforts of other NextGen initiatives; and (c) to support and facilitate the development of NextGen open, accessible standards, specifications, analytical tools, metrics, guidelines and solutions (collectively “Specifications”); and (d) to promote the adoption and use of said Prototypes and Specifications; and (e) to support and facilitate the creation of testing and conformity assessment of implementations to ensure and facilitate compliance with Specifications; and (f) to operate a branding program based upon distinctive trademarks to create high customer awareness of, demand for, and confidence in products, services, programs and other deliverables of the Joint Venture; and (g) to undertake such other activities as may from time-to-time be appropriate to further the purposes discussed above. The Joint Venture is not engaged in and does not intend to engage in production activities.

Membership in this group research project remains open and the Joint Venture intends to file additional written notifications disclosing all changes in membership.

Patricia A. Brink,
Deputy Director of Operations, Antitrust Division.

[FR Doc. E8-8623 Filed 4-25-08; 8:45 am]

BILLING CODE 4410-11-M